DEPARTMENT OF TRANSPORTATION

Federal Railroad Administration

[Docket Number FRA-2006-24216]

Petition for Waiver of Compliance

In accordance with Part 211 of Title 49 of the Code of Federal Regulations (CFR), this document provides the public notice that by a document dated May 27, 2011, the Sacramento Regional Transit District (SRTD) has petitioned the Federal Railroad Administration (FRA) for a waiver of compliance from certain provisions of the Federal railroad safety regulations contained at 49 CFR part 221-Rear End Marking Devices; Part 223-Safety Glazing Standards-Locomotives, Passenger Cars, and Cabooses; Part 238-Passenger Equipment Safety Standards; and Part 239-Passenger Rail Emergency Preparedness. FRA assigned the petition Docket Number FRA-2006-24216.

SRTD is building its Green Line to the River District Project, a 1.1-mile extension to the existing 37.5-mile rail fixed guideway transit system. This extension features an at grade rail-rail diamond limited connection to the Union Pacific Railroad (UPRR) at its Industrial Lead Track 150 at 7th Street in Sacramento, California. UPRR operates 1-2 freight trains per month across this Lead Track location. SRTD states in its petition that this is a very limited but fully interlocked connection and that relief from certain provisions of the CFR is justified. Lastly, SRTD is seeking this relief from the aforementioned CFR parts because it is under the safety oversight provided by the California Public Utilities Commission and sanctioned by the Federal Transit Administration. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

A copy of the petition, as well as any written communications concerning the petition, is available for review online at http://www.regulations.gov and in person at the Department of Transportation's Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC. 20590, between 9 a.m. and 5 p.m., Monday through Friday, except Federal holidays.

Communications received by August 15, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC on June 23, 2011.
Robert C. Lauby,
Deputy Associate Administrator for Regulatory & Legislative Operations.

[FR Doc. 2011-16412 Filed 6-29-11; 8:45 am]

BILLING CODE 4910-06-P